DEPARTMENT OF HEALTH AND HUMAN SERVICES

National Institutes of Health

Government-Owned Inventions; Availability for Licensing

AGENCY: National Institutes of Health, Public Health Service, DHHS.

ACTION: Notice.

SUMMARY: The inventions listed below are owned by an agency of the U.S. Government and are available for licensing in the U.S. in accordance with 35 U.S.C. 207 to achieve expeditious commercialization of results of federally-funded research and development. Foreign patent applications are filed on selected inventions to extend market coverage for companies and may also be available for licensing.

ADDRESSES: Licensing information and copies of the U.S. patent applications listed below may be obtained by writing to the indicated licensing contact at the Office of Technology Transfer, National Institutes of Health, 6011 Executive Boulevard, Suite 325, Rockville, Maryland 20852-3804; telephone: 301/496-7057; fax: 301/402-0220. A signed Confidential Disclosure Agreement will be required to receive copies of the patent applications.

Infectious Clone of Human Parvovirus B19 and Methods of Use

Ning Zhi et al. (NHLBI).

U.S. Patent Application No. 10/887,770 filed 09 Jul 2004 (DHHS Reference No.E-178-2004/0-US-01 and corresponding Canadian patent application (DHHS Reference No. E-178-2004/0-CA-02).

Licensing Contact: Susan Ano; 301/435-5515; anos@mail.nih.gov.

This technology described in this patent application relates the first reported infectious human parvovirus B19 clone, methods of cloning the parvovirus B19 genome as well as other viral genomes that have secondary DNA structures that are unstable in bacterial cells. The infectious clone and methods of producing the same would be useful in producing infectious virus, which can in turn be used, among other things, to identify and develop therapeutic agents for treatment and/or prevention of human parvovirus B19 infections. The infectious parvovirus B19 clone is also available for licensing. Additional information about this invention can be found in Virology 2004, 318(1), 142-152.

Immunogenic Compositions for Eradication of Latent HIV

Genoveffa Franchini et al. (NCI).

U.S. Provisional Application No. 60/536,467 filed 13 Jan 2004 (DHHS Reference No. E-072-2004/0-US-01); U.S. Provisional Application No. 60/536,976 filed 16 Jan 2004 (DHHS Reference No. E-072-2004/1-US-01).

Licensing Contact: Susan Ano; 301/435-5515; anos@mail.nih.gov.

HIV infects CD4+ cells and, after incorporation of the viral genome into the host genome, can either produce infectious virus or remain latent. HIV that is latent presents a challenge for complete removal of the virus in infected individuals and is becoming an increasingly important consideration in the identification of potential therapeutics or treatment regimens. This patent application describes immunogenic compositions based on inhibiting the function of p28TEV protein, the first protein expressed during HIV infection, for treatment of latent HIV infection. Specifically, these compositions include the p28TEV polypeptide, a polypeptide with significant sequence homology to p28TEV, or immunogenic fragments of these polypeptides. Additional compositions include antibodies and other compounds that act to inhibit p28TEV activity. This technology can also be utilized to detect latent HIV in biological samples. These compositions and methods offer a potential solution for complete virus eradication in therapeutic treatment of HIV infected individuals.

Accelerated Vaccination Strategies To Provide Protection Against Viral Infections

Gary J. Nabel et al. (NIAID).

U.S. Provisional Application No. 60/491,933 filed 01 Aug 2003 (DHHS Reference No. E-317-2003/0-US-01); PCT Application filed on 01 Aug 2004 (DHHS Reference No. E-317-2003/0-PCT-02).

Licensing Contact: Susan Ano; 301/435-5515; anos@mail.nih.gov.

The technology described in this patent application relates to recombinant viruses for use as vaccines. These viruses contain a single or plurality of sequences encoding antigens from pathogenic viruses heterologous to the recombinant virus. The antigenic sequences from pathogens such as influenza, RSV, measles, HPV, Epstein-Barr, Lassa, Polio, West Nile, Dengue, HIV-1 and 2, HTLV, herpes simplex virus, hepatitis viruses A, B, C, D, and E, Marburg, Ebola, and SARS are inserted into non-essential regions of either replication-competent or replication-defective adenovirus, adeno-associated virus (AAV), SV40 virus, herpes simplex virus, or vaccinia virus vectors that retain elements necessary for infectivity but are devoid of any pathogenic sequence elements. In these recombinant viruses, the antigenic sequences are operably linked to viral control elements. Thus, these recombinant viruses are capable of infecting a host and mounting an immune response specific to a given virus(es) without eliciting pathogenicity. In addition to the above, the technology also describes methods of accelerated pre-exposure or post-exposure vaccination comprising single-dose administration. The attractive features of this invention include the broad applicability of the recombinant viruses against a number of common pathogens and the potential of using them against other emergent infectious viruses; the ability of the vaccines to stimulate both cellular and humoral immune responses in humans and other hosts; and the ease of administration in single dose form via a number of routes. This technology is now available for licensing. Some fields of use may not be available.

Dated: November 9, 2004.
Steven M. Ferguson,
Director, Division of Technology Development and Transfer, Office of Technology Transfer, National Institutes of Health.

[FR Doc. 04-25279 Filed 11-12-04; 8:45 am]

BILLING CODE 4140-01-P